OFFICE OF PERSONNEL MANAGEMENT

Submission for OMB Review; Comment Request for an Expiring Information Collection: OPM Form 1644

AGENCY: Office of Personnel Management.

ACTION: Notice.

SUMMARY: In accordance with the Paperwork Reduction Act of 1995 (Public Law 104-13, May 22, 1995), this notice announces that the Office of Personnel Management (OPM) submitted to the Office of Management and Budget a request for review of an expiring information collection. OPM Form 1644, Child Care Provider Information: Child Care Tuition Assistance Program for Federal Employees, is used to verify that child care providers are licensed and/or regulated by local and/or State authorities. Agencies need to know that child care providers to whom they make disbursements in the form of tuition assistance subsidies, are licensed and/or regulated by local and/or State authorities, in accordance with the specific requirements of their jurisdictions.

Pub. L. 106-58, passed by Congress on September 29, 1999, permits Federal agencies to use appropriated funds to help their lower income employees with their costs for child care. It is up to the agencies to decide on whether to implement this law. This is a new law and the extent to which it will be implemented, including the number of providers that will be involved, cannot be easily predicted. We estimate approximately 3000-5000 OPM 1644 forms will be completed annually. The form will take approximately 10 minutes to complete by each provider. The annual estimated burden is 833 hours.

For copies of this proposal, contact Mary Beth Smith-Toomey on (202) 606-8358, Fax at 202-418-3251 or E-mail mbtoomey@opm.gov. Please include a mailing address with your request.

DATES: Comments on this proposal should be received within 30 calendar days from the date of this publication.

ADDRESSES: Send or deliver comments to:—

Patricia F. Kinney, Director, Office of Work/Life Programs, U.S. Office of Personnel Management, 1900 E St., NW., Room 7315, Washington, DC 20415,

and,

Joseph Lackey, OPM Desk Officer, Office of Information and Regulatory Affairs, Office of Management and Budget, New Executive Office Building, NW., Room 10235, Washington, DC 20503.

FOR INFORMATION REGARDING ADMINISTRATION COORDINATION CONTACT: Brooke L. Brewer, Work/Life Program Specialist, Office of Work/Life Programs, (202) 606-2012.

U.S. Office of Personnel Management.
Steven R. Cohen,
Acting Director.

[FR Doc. 01-15830 Filed 6-22-01; 8:45 am]

BILLING CODE 6325-41-P